DEPARTMENT OF DEFENSE

Office of the Secretary

[Transmittal No. 23-79]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-79, Policy Justification, and Sensitivity of Technology.

Dated: November 13, 2025.
Aaron T. Siegel,
Alternate OSD Federal Register Liaison Officer, Department of Defense.

Transmittal No. 23-79

Notice of Proposed Issuance of Letter of Offer Pursuant to Section 36(b)(1) of the Arms Export Control Act, as amended

(i) Prospective Purchaser: Government of Slovakia

(ii) Total Estimated Value:

Major Defense Equipment * | $250 million
Other | $350 million
TOTAL | $600 million

Funding Source: FMF Grant and National Funds

(iii) Description and Quantity or Quantities of Articles or Services under Consideration for Purchase:

Major Defense Equipment (MDE):

Twelve (12) AH-1Z attack helicopters

Twenty-six (26) T-700 GE 401C engines (24 installed, 2 spares)

One thousand six hundred eighty (1,680) Advanced Precision Kill Weapon Systems (APKWS), WGU-59/B

Fourteen (14) Honeywell embedded global positioning systems (GPS)/inertial navigation systems (INS) (EGIs) (12 installed, 2 spares)

Non-Major Defense Equipment:

The following non-MDE items will also be included: support and test equipment; aircraft; weapons and munitions; countermeasures; integration and test support; spare and repair parts; communications equipment; mission planning; software delivery and support; Helmet Mounted Display System/Optimized TopOwl, Target Sight Systems and containers, technical refresh mission computers; ANVIS-9 night vision cueing displays; AN/ARC-210 Generation 6 receiver-transmitter 2036 radio equipment; AN/APX-123A identification friend or foe (IFF) Mode 5 mounting trays and batteries; cartridge actuated devices/propellant actuated devices (CAD/PADs); facilities and construction support; transportation; publications and technical documentation; personnel training and training equipment; countermeasures, including M299 launchers, LAU-61C/A and LAU-68F/A rocket launchers, M151 high explosive warheads for airborne 2.75 inch rockets; MK66 MOD 4, 2.75-inch rocket motors; WTU-1B warheads; M197 20 mm armament pod gun assemblies; 20 mm PGU-27A/B target practice rounds; 20 mm PGU-28A/B semi armor piercing high explosive incendiary rounds; AN/ALE-47 chaff and flare countermeasures system; MJU-32A/B and MJU-49B decoy flares; SMB875B/ALE flare simulators; RR-129A/AL chaff cartridges; RR-144A/AL training chaff cartridges; CCU-136A/A impulse cartridges; AN/AAR-47 missile warning system; AN/APR-39C radar warning receiver and conversion kits; KIV-78A cryptographic appliques; AN/PYQ-10C Simple Key Loader with KOV-21 cryptographic card; U.S. Government and contractor engineering; field service representative services; technical and logistical support services; studies and surveys; and other related elements of logistics and program support.

(iv) Military Department: Navy (LO-P-SAB)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: July 31, 2024

* as defined in Section 47(6) of the Arms Export Control Act.

POLICY JUSTIFICATION

Slovakia—AH-1Z Attack Helicopters

The Government of Slovakia has requested to buy twelve (12) AH-1Z attack helicopters; twenty-six (26) T-700 GE 401C engines (24 installed, 2 spares); one thousand six hundred eighty (1,680) Advanced Precision Kill Weapon Systems (APKWS), WGU-59/B; and fourteen (14) Honeywell embedded global positioning systems (GPS)/inertial navigation systems (INS) (EGIs) (12 installed, 2 spares). The following non-MDE items will also be included: support and test equipment; aircraft; weapons and munitions; countermeasures; integration and test support; spare and repair parts; communications equipment; mission planning; software delivery and support; Helmet Mounted Display System/Optimized TopOwl, Target Sight Systems and containers; technical refresh mission computers; ANVIS-9 night vision cueing displays; AN/ARC-210 Generation 6 receiver-transmitter 2036 radio equipment; AN/APX-123A identification friend or foe (IFF) Mode 5 mounting trays and batteries; cartridge actuated devices/propellant actuated devices (CAD/PADs); facilities and construction support; transportation; publications and technical documentation; personnel training and training equipment; countermeasures, including M299 launchers, LAU-61C/A and LAU-68F/A rocket launchers, M151 high explosive warheads for airborne 2.75 inch rockets; MK66 MOD 4, 2.75-inch rocket motors; WTU-1B warheads; M197 20 mm armament pod gun assemblies; 20 mm PGU-27A/B target practice rounds; 20 mm PGU-28A/B semi armor piercing high explosive incendiary rounds; AN/ALE-47 chaff and flare countermeasures system; MJU-32A/B and MJU-49B decoy flares; SMB875B/ALE flare simulators; RR-129A/AL chaff cartridges; RR-144A/AL training chaff cartridges; CCU-136A/A impulse cartridges; AN/AAR-47 missile warning system; AN/APR-39C radar warning receiver and conversion kits; KIV-78A cryptographic appliques; AN/PYQ-10C Simple Key Loader with KOV-21 cryptographic card; U.S. Government and contractor engineering; field service representative services; technical and logistical support services; studies and surveys; and other related elements of logistics and program support. The estimated total cost is $600 million.

This proposed sale will support the foreign policy and national security objectives of the United States by helping to improve the security of a NATO Ally that is a force for political stability and economic progress in Europe.

The proposed sale will improve Slovakia's capability to meet current and future threats by providing the Slovak Air Force with aircraft to meet its national defense needs. Slovakia will have no difficulty absorbing this equipment into its armed forces.

The proposed sale of this equipment and support will not alter the basic military balance in the region.

The principal contractors will be Bell Textron, located in Fort Worth, TX; and the General Electric Company, located in Lynn, MA. There are no known offset agreements in connection with this potential sale.

Implementation of this proposed sale will require multiple trips by U.S. Government and contractor representatives to Slovakia to participate in program and technical reviews, as well as training and maintenance support in-country, on a temporary basis, for a period of twenty-four (24) months. It will also require approximately two (2) contractor support representatives to reside in-country for a period of two (2) years to support this program.

There will be no adverse impact on U.S. defense readiness as a result of this proposed sale.

Transmittal No. 23-79

Notice of Proposed Issuance of Letter of Offer Pursuant to Section 36(b)(1) of the Arms Export Control Act

Annex

Item No. vii

(vii) Sensitivity of Technology:

1. The AH-1Z has an integrated avionics system which includes two mission computers and an automatic flight control system. Each crew station has two 8x6-inch multifunction liquid crystal displays (LCDs) and one 4.2x4.2-inch dual function LCD. The communications suite will have COMSEC ARC 210 ultra high frequency/very high frequency (UHF/VHF) radios with associated communications equipment. The navigation suite includes a Precise Positioning System (PPS), Honeywell embedded global positioning systems (GPS)/inertial navigation systems (INS) (EGIs) provided by Selective Availability Anti-Spoofing Module (SAASM) or M-Code, a digital map system, and a low-airspeed air data subsystem.

The crew is equipped with the Optimized TopOwl (OTO) helmet-mounted sight and display system. The OTO has a Day Display Module (DDM) and a Night Display Module (NDM). The H-1 has survivability equipment including the AN/AAR-47 missile warning and laser detection system, AN/ALE-47 countermeasure dispensing system, and the AN/APR-39 radar warning receiver to provide radar and laser warning, and dispense countermeasures.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Government of Slovakia can provide substantially the same degree of protection for the sensitive technology being released as the U.S. Government. This sale is necessary in furtherance of the U.S. foreign policy and national security objectives outlined in the Policy Justification.

5. All defense articles and services listed in this transmittal have been authorized for release and export to the Government of Slovakia.

[FR Doc. 2025-20038 Filed 11-17-25; 8:45 am]

BILLING CODE 6001-FR-P